DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that a meeting has been scheduled for the Advisory Committee on Blood Safety and Availability (ACBSA).

DATES: The meeting is scheduled to be held on Tuesday, May 9, 2006 from 9 a.m. to 1 p.m. and on May 10, 2006 from 2 p.m. to 5 p.m.

ADDRESSES: Marriott Crystal Gateway, 1700 Jefferson Davis Highway, Arlington, VA 22202.

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8809, FAX (240) 453-8456, e-mail jholmberg@osophs.dhhs.gov

SUPPLEMENTARY INFORMATION: The ACBSA will meet to review progress and solicit additional input regarding numerous recommendations made during the past year. Additionally, the Committee will discuss the elements for a strategic plan for blood safety and availability in the 21st Century. Vigilance is recognized as a necessary first step toward the goal of reducing the risk of transfusion-transmitted diseases as well as disease transmission through other vital products such as bone marrow, progenitor cells, tissues, and organs. Elements necessary for vigilant surveillance, detection, research, education, and management of emerging or re-emerging infectious and non-infectious events of transfusion will be discussed and drafted into a proposed plan.

The public is invited to present comments to the Committee on Tuesday, May 9, 2006. The comments will be limited to five minutes per speaker. Anyone planning to comment is encouraged to contact the Executive Secretary at his/her earliest convenience. Those who wish to have printed material distributed to advisory committee members should submit the material to the Executive Secretary prior to close of business May 5, 2006. Likewise, those who wish to utilize electronic data projection to make presentations to the Committee must submit their materials to the Executive Secretary prior to close of business May 5, 2006.

Dated: April 12, 2006.
Jerry A. Holmberg,
Executive Secretary, Advisory Committee on Blood Safety and Availability.

[FR Doc. E6-5770 Filed 4-17-06; 8:45 am]

BILLING CODE 4150-41-P